DEPARTMENT OF HOMELAND SECURITY

Coast Guard

33 CFR Part 117

[Docket No. USCG-2014-0168]

Drawbridge Operation Regulation; Pearl River, LA/MS

AGENCY: Coast Guard, DHS.

ACTION: Notice of deviation from drawbridge regulation.

SUMMARY: The Coast Guard has issued a temporary deviation from the operating schedule that governs the operation of the US 90 highway bridge (East Pearl River Bridge), a swing span bridge across the Pearl River, mile 8.8, near Pearlington, Mississippi. The deviation is necessary in order to conduct electrical and structural repairs to the bridge. These repairs are essential for the continued safe operation of the bridge. This deviation allows the bridge to remain temporarily closed to navigation for ten hours on three separate dates to effect the repairs.

DATES: This deviation is effective from 7 a.m. on Monday, April 14, 2014 through 5 p.m. on Friday, April 25, 2014.

ADDRESSES: The docket for this deviation, [USCG-2014-0168] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: Boh Bros. Construction Company, on behalf of the Louisiana Department of Transportation and Development, requested a temporary deviation from the operating schedule on the US 90 highway bridge (East Pearl River Bridge), a swing span bridge across the Pearl River, mile 8.8 between Slidell, St. Tammany Parish, Louisiana and Pearlington, Hancock County, Mississippi.

The bridge has a vertical clearance of 10 feet above mean high water in the closed-to-navigation position and unlimited clearance in the open-to-navigation position. In accordance with 33 CFR 117.486(b), the draw of the US 90 highway bridge shall open on signal; except that, from 7 p.m. to 7 a.m. the draw shall open on signal if at least four hours notice is given.

This temporary deviation allows the swing span bridge to remain closed to navigation from 7 a.m. until 5 p.m. on Monday, April 14, 2014, on Thursday, April 24, 2014, and on Friday, April 25, 2014. During the first closure, the contractor will jack up the swing span to conduct structural repairs. During the second and third closures, the contractor will conduct electrical repairs and/or replacement of parts.

Navigation at the site of the bridge consists mainly of small tows with barges, some commercial sightseeing boats, and some recreational pleasure craft. Due to prior experience, as well as coordination with waterway users, it has been determined that this closure will not have a significant effect on these vessels. No alternate routes are available.

In accordance with 33 CFR 117.35, the bridge must return to its regular operating schedule immediately at the end of the effective period of this temporary deviation.

This deviation from the operating regulations is authorized under 33 CFR 117.35.

Dated: March 11, 2014.
David M. Frank,
Bridge Administrator.

[FR Doc. 2014-06443 Filed 3-24-14; 8:45 am]

BILLING CODE 9110-04-P